DEPARTMENT OF TRANSPORTATION

Federal Railroad Administration

[Docket Number FRA-2016-0086]

Petition for Waiver of Compliance

Under part 211 of title 49 Code of Federal Regulations (CFR), this document provides the public notice that on October 3, 2019, CSX Transportation (CSX) petitioned the Federal Railroad Administration (FRA) for a waiver of compliance from certain provisions of the Federal railroad safety regulations contained at 49 CFR part 232, Brake System Safety Standards for Freight and Other Non-Passenger Trains and Equipment, and 49 CFR part 229, Railroad Locomotive Safety Standards. FRA assigned the petition Docket Number FRA-2016-0086.

Specifically, CSX seeks relief with respect to the application of 49 CFR 232.205(c)(1)(iii), Leakage test, and § 229.29(b), Air brake system calibration, maintenance, and testing, for the calibration of locomotive air flow method (AFM) indicators. CSX requests to become a full test member of the existing FRA-2016-0086 test waiver (joining BNSF Railway), under the same conditions as BNSF, for testing 1,264 of CSX's New York Air Brake (NYAB) CCB II equipped locomotives (see FRA-2016-0086-0006) to investigate whether the interval for calibration may be safely extended to 184 days. CSX also requests to form a test team operating under the current FRA-2016-0086 test committee to test all 440 CSX Wabtec Fastbrake-equipped locomotives. CSX has been an active member of the FRA-2016-0086 test committee since its inception and is familiar with the work performed to date by this committee. On August 29, 2019, the test committee extended a consensus recommendation for CSX to join the waiver as a testing member to help assess Wabtec's Fastbrake systems, and to expand the scope of NYAB CCB II locomotives being evaluated under the waiver.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by December 20, 2019 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2019-25138 Filed 11-19-19; 8:45 am]

BILLING CODE 4910-06-P